ENVIRONMENTAL PROTECTION AGENCY

[EPA-HQ-OPP-2006-0847; FRL-8123-4]

Colorado State Plan for Certification of Applicators of Restricted Use Pesticides; Notice of Approval

AGENCY: Environmental Protection Agency (EPA).

ACTION: Notice.

SUMMARY: In the Federal Register of December 22, 2006, EPA issued a notice announcing its intent to approve an amended Colorado State Plan for the certification of applicators of restricted use pesticides contingent upon Colorado's promulgation of appropriate revised State Rules and Regulations pertaining to the Administration and Enforcement of the Colorado Pesticide Applicators' Act by January 1, 2007. In that notice, EPA solicited comments from the public on the proposed action to approve the amended Colorado State Plan. The amended Certification Plan Colorado submitted to EPA contained several statutory, regulatory, and programmatic changes to its current Certification Plan. The proposed amendments provide details for the certification of both private and commercial pesticide applicators and subsequent enforcement of pesticide laws and regulations pursuant to the Colorado Pesticide Applicator's Act. In addition, the amended State Plan adds three new commercial pesticide applicator subcategories. No comments were received in response to that Federal Register notice and Colorado promulgated the appropriate revised State Rules and Regulations pertaining to the Administration and Enforcement of the Colorado Pesticide Applicators' Act on January 1, 2007. Therefore, EPA hereby approves the amended Colorado State Plan.

FOR FURTHER INFORMATION CONTACT: Peg Perreault, EPA Region 8, Pollution Prevention, Pesticides, and Toxics Program, 8P-P3T, 1595 Wynkoop St., Denver, CO 80202-1129; telephone number: (303) 312-6286; e-mail address: perreault.peg@epa.gov.

SUPPLEMENTARY INFORMATION:

I. General Information

A. Does this Action Apply to Me?

This action is directed to the public in general. This action may, however, be of interest to those involved in agriculture and anyone involved with the distribution and application of pesticides for agricultural purposes. Others involved with pesticides in a non-agricultural setting may also be affected. In addition, it may be of interest to others, such as, those persons who are or may be required to conduct testing of chemical substances under the Federal Food, Drug, and Cosmetic Act (FFDCA), or the Federal Insecticide, Fungicide, and Rodenticide Act (FIFRA). Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPPT-2006-0847. Publicly available docket materials are available either in the electronic docket at http://www.regulations.gov, or, if only available in hard copy, at the Office of Pesticide Programs (OPP) Regulatory Public Docket in Rm. S-4400, One Potomac Yard (South Building), 2777 S. Crystal Drive, Arlington, VA. The hours of operation of this Docket facility are from 8:30 a.m. to 4 p.m., Monday through Friday, excluding legal holidays. The Docket facility telephone number is (703) 305-5805.

2. Electronic access. You may access this Federal Register document electronically through the EPA Internet under the “Federal Register” listings at http://www.epa.gov/fedrgstr.

II. What Action is the Agency Taking?

EPA is approving the amended Colorado State Certification Plan. This approval is based upon EPA's review of the Colorado State Plan and finding it in compliance with FIFRA and its implementing regulations at 40 CFR part 171. Further, there were no public comments submitted in response to the earlier Federal Register notice (71 FR 77014) (FRL-8102-8) soliciting comments and Colorado promulgated the appropriate revised State Rules and Regulations pertaining to the Administration and Enforcement of Colorado Pesticide Applicators' Act. Therefore, the amended Colorado State Certification Plan is hereby approved.

List of Subjects

Environmental protection, Education, Pests and pesticides.

Dated: May 30, 2007.
Robert E. Roberts,
Regional Administrator, Region 8.

[FR Doc. E7-11945 Filed 6-19-07; 8:45 am]

BILLING CODE 6560-50-S